DEPARTMENT OF TRANSPORTATION

Federal Railroad Administration

High-Speed Intercity Passenger Rail (HSIPR) Program

AGENCY: Federal Railroad Administration (FRA), Department of Transportation (DOT).

ACTION: Notice of solicitation for proposals for Federally-led multi-state passenger rail corridor planning demonstration projects.

SUMMARY: On January 28, 2010, President Obama announced the first grant awards for the High-Speed Intercity Passenger Rail (HSIPR) Program. The Department of Transportation Appropriations Act of 2010 (FY 2010 DOT Appropriations Act) allocated an additional $2.5 billion for the HSIPR Program, of which up to $50 million can be used for planning activities. The appropriations act permits the Secretary of Transportation to retain a portion of this planning funding to facilitate, at the Federal level, the preparation of planning documents for high-speed rail corridors that cross multiple States. This is a solicitation for proposals from groups of States that wish to be considered for this innovative approach to planning multi-state passenger rail corridors.

Concurrent with this solicitation, FRA has issued a notice of funding availability (NOFA) for the FY 2010 planning funds, also published in this edition of the Federal Register.

DATES: Proposals are due no later than 5 p.m. EST, May 19, 2010 and must be submitted via e-mail to HSIPR@dot.gov. The form for these proposals can be found at http://www.fra.dot.gov/Pages/2243.shtml.

Materials that cannot be submitted electronically may be mailed or hand delivered to: U.S. Department of Transportation, Federal Railroad Administration, 1200 New Jersey Avenue, SE., MS-20, Room W38-302, Washington, DC, 20590 Attn. HSIPR Program. States are encouraged to use special courier services to avoid shipping delays. Materials must be post-marked by May 19, 2010 to be eligible for consideration.

Overview: FRA is seeking proposals from groups of States interested in participating in a FRA-led demonstration project that could provide a future model for Federal collaboration with States on complex, multi-state corridor planning efforts. The planning project would be identified by the States, but funded and managed by FRA in close coordination with the States and other stakeholders.

Proposals are sought for projects that would result in a “passenger rail corridor investment plan.” A passenger rail corridor investment plan provides the comprehensive information necessary to support a decision to proceed with funding and implementation of a major investment in a passenger rail corridor. Feasibility studies alone would not satisfy this requirement.

Passenger rail corridor investment plans include both a service development plan (SDP) and corridor-wide environmental documentation. Groups of states submitting proposals should identify whether they are proposing that FRA lead the development of both documents, a stand-alone SDP, or corridor-wide environmental document.

Service Development Plan

Service Development Plans (SDPs) should support future corridor development and must include the following elements:

• Corridor Development Program Rationale—Description of the corridor's transportation challenges and opportunities, based on current and forecasted travel demand and capacity conditions, demonstrating how the proposed project/program would cost-effectively address transportation and other needs. Development of the program rationale should consider multimodal system alternatives (highway, air, other, as applicable), including a qualitative and quantitative assessments of the costs, benefits and impacts and risks of the alternatives. Program rationale may also explore synergies between the proposed service and large-scale goals and development plans within its service region and communities.

• Service Plan—Detail on the train service alternatives to be provided for each phase of new or improved HSIPR service, including: the service frequency, timetable (including time-distance “stringline” diagrams), general station locations, intermodal connections, and train consists. The Service Plan will rely on or include operational analyses, including, where appropriate, railroad operation simulations and equipment and crew scheduling analyses, which in turn reflect such variables as travel demand and rolling stock configuration. The planning horizon should be consistent with the anticipated useful lives of the improvements to be introduced. If the proposed service makes use of facilities that would be shared with freight, commuter rail, or other intercity passenger rail services, the planning study should consider the existing and future characteristics of those services, as developed cooperatively with freight, commuter, and intercity passenger rail partners.

• Capital Investment Needs Assessment—Identification of infrastructure, rolling stock and facilities improvements for each discrete phase of new or improved service implementation, including any sequence or prioritization. The plan will include cost estimates for specific capital investments needed to achieve and sustain the service plan.

• Financial Forecast—Operating financial projections for each phase of the planned service, with documentation of the methods, assumptions and outputs of the following: travel demand forecasts, projected revenue, and operating expenses, including maintenance of way, maintenance of equipment, transportation (train movement), passenger traffic and services (marketing, ticketing, station, and on-board services), and general/administrative expenses. Cost-sharing arrangements with infrastructure owners and rail operators should also be included.

• Public Benefits Assessment—Description of user and non-user benefits and, to the extent readily quantifiable, the estimated economic value of those benefits, with particular attention to job creation and retention, “green” environmental outcomes, potential energy savings, and effects on community livability.

• Program Management Approach—A phased program implementation strategy including a preliminary description of the intended techniques of project management that will assure quality, cost, and budget control; and the financing and organizational plans for carrying out the proposed strategy.

Corridor-Wide Environmental Documents

Environmental documentation funded through this solicitation must satisfy Service NEPA requirements. FRA has defined Service NEPA as at least a programmatic/Tier 1 environmental review (using tiered reviews and documents), or a project environmental review, that also addresses broader questions and likely environmental effects for the entire corridor relating to the type of service(s) being proposed, including cities and stations served, route alternatives, service levels, types of operations (speed, electric, or diesel powered), ridership projections, and major infrastructure components. Simple corridor programs are often best addressed with project NEPA documentation, while more complex corridor programs may need a tiering approach. FRA is responsible for establishing the scope of the environmental review, including the use of tiering or use of project NEPA documentation.

Proposal Form: The proposal form should be downloaded from: http://www.fra.dot.gov/Pages/2243.shtml. The form has been developed by FRA to capture pertinent qualitative and quantitative information that is needed to confirm project eligibility, as well as information FRA needs for consideration of proposals. States should provide as much information as possible about the proposed planning activities. FRA would finalize a project's goals, scope, schedule, and budget and carry out the project in coordination with the group of States.

Decision Process: FRA will be making decisions regarding FRA-funded activities considering the narrative responses provided in the proposals received from States on the following topics:

1. Potential Transportation and Public Benefits: Proposals should describe the underlying corridor program that will be the subject of the planning activities, including such factors as:

• The clarity and detail with which the States have identified the problem to be addressed by the proposed service;

• The market potential of the corridor being studied, taking into consideration such factors as population, density, economic activity, and travel patterns;

• The potential for the corridor to deliver high-speed and intercity passenger rail service benefits, including ridership, on-time performance, travel time, service frequencies, safety and other factors;

• The potential of the corridor program to promote economic development, including contributions to a sustainable U.S. manufacturing and supply base;

• The potential of the corridor program to enhance energy efficiency and environmental quality;

• The potential of the corridor program to promote interconnected livable communities, including complementing local or state efforts to concentrate higher-density, mixed-use, development in areas proximate to multi-modal transportation options (including intercity passenger rail stations); and

• The consideration of other transportation modes in the planning process.

2. Future Program Viability and Sustainability: The proposal should explain how the planning activities would lead to a long-term, viable high-speed rail corridor program:

• The likelihood that the final deliverables (Service Development Plan, Environmental Document, or State Rail Plan) will be ready and capable of being implemented;

• The demonstrated commitment of the State and other stakeholders to quickly execute the program once planning is complete;

• The degree to which the planning process meaningfully incorporates input from affected communities, local governments, regional councils and planning organizations, neighboring States, railroads, transportation modal partners, environmental interests, the public and other stakeholders—early and throughout the process;

• The likelihood that the corridor programs being studied can yield measurable service and public benefits in a reasonable period of time;

• The demonstrated ability of the States to support the future capital and operating needs of the corridor being studied;

• The thoroughness of the proposed deliverables;

• The quality of proposed methodology and assumptions; and

3. Project Management Proposal: Describe the proposed method for managing the project, including a description of the shared responsibilities between the FRA and the States, and the relationships and means of coordination among the participating States, service operators, and host railroads. This section should detail the mechanism by which States will coordinate their views during the project.

4. Justification Statement: Identify the rationale for Federal leadership on the planning project, such as specific institutional barriers or operational complexities. Conditions that may call for a Federal leadership role include multi-state and multi-jurisdictional complexity and/or operational complexity involving multiple operating entities and/or divided property ownership and rights. Additionally, proposals should provide a narrative on how the proposed project could serve as a demonstration project and national model for future FRA-managed, multi-State planning projects.

Submission Package: States interested in providing proposals must submit the following documents to HSIPR@dot.gov no later than 5 p.m. EST, May 19, 2010.

• Required—One Application Form provided at http://www.fra.dot.gov/Pages/2243.shtml.

• Required—Letter(s) signed by all the chief executives of State transportation departments or agencies that will be part of the project, stating their commitment to participate.

• Optional—Letter(s) from other stakeholders or interested parties.

• Optional—Other supporting documents that the applicant believes would assist FRA in understanding the proposal (including, but not limited to, maps or previous planning documents).

FOR FURTHER INFORMATION CONTACT: For further information regarding this notice, please contact the FRA HSIPR Program Manager via e-mail at HSIPR@dot.gov.

Issued in Washington, DC, on March 29, 2010.
Karen Rae,
Deputy Administrator.

[FR Doc. 2010-7338 Filed 3-31-10; 8:45 am]

BILLING CODE 4910-06-P